DEPARTMENT OF TRANSPORTATION

Federal Aviation Administration

Fourth Meeting: RTCA Special Committee (234) Portable Electronic Devices (PEDs) (Joint With EUROCAE WG-99)

AGENCY: Federal Aviation Administration (FAA), U.S. Department of Transportation (DOT).

ACTION: Notice of Fourth RTCA Special Committee 234 Meeting.

SUMMARY: The FAA is issuing this notice to advise the public of the Fourth RTCA Special Committee 234 meeting.

DATES: The meeting will be held April 13-15, 2016 from 9:00 a.m.-5:00 p.m.

ADDRESS: The meeting will be held at Lufthansa Conference Center Permanenta Building 234, FAC, 2. Floor, Hugo Echner Ring 234, 60546 Frankfurt/Main, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 234. The agenda will include the following:

Wednesday, April 13, 2016

1. Opening Plenary (9:00 a.m.-12:00 p.m.)

a. Welcome and Administrative Remarks

b. Introductions

c. Agenda Review

d. Meeting—Minutes Review

e. Reports from Task-Group Leaders (TG #1-#5)

i. TG-1—General Background, Regulations, App, etc.

ii. TG-2—Front Door Guidance

iii. TG-3—Back Door Guidance

iv. TG-4—Sustaining Aircraft PED Tolerance

v. TG-5—DO-307A/ED-239

f. Interim Adjournment

2. Task Group Sessions (1:30 p.m.-5:00 p.m.)

Thursday, April 14, 2016

1. Continuation of Task Group Sessions (9:00 a.m.-5:00 p.m.)

Friday, April 15, 2016

1. Closing Plenary (9:00 a.m.-12:00 p.m.)

a. Wrap Up Reports from Task-Group Leaders (TG #1-#5)

i. TG-1—General Background, Regulations, App, etc.

ii. TG-2—Front Door Guidance

iii. TG-3—Back Door Guidance

iv. TG-4—Sustaining Aircraft PED Tolerance

v. TG-5—DO-307A/ED-239

b. Review of program schedule

c. Any other Business

d. Date and Place of Next Meeting

e. Adjourn

Attendance is open to the interested public but limited to space availability. WebEx/Audio information will be provided for attendees who would like to dial-in. With the approval of the chairman, members of the public may present oral statements at the meeting. Plenary information will be provided upon request. Persons who wish to present statements or obtain information should contact the person listed in the FOR FURTHER INFORMATION CONTACT section. Members of the public may present a written statement to the committee at any time.

Issued in Washington, DC, on March 3, 2016.
Latasha Robinson,
Management & Program Analyst, NextGen, Enterprise Support Services Division, Federal Aviation Administration.

[FR Doc. 2016-05310 Filed 3-9-16; 8:45 am]

BILLING CODE 4910-13-P